FEDERAL ELECTION COMMISSION

[Notice 2001—12]

Filing Dates for the South Carolina Special Election in the 2nd Congressional District

AGENCY: Federal Election Commission.

ACTION: Notice of filing dates for special election.

SUMMARY: South Carolina has scheduled special elections to fill the U.S. House of Representatives seat in the Second Congressional District held by the late Congressman Floyd Spence. There are three possible special elections, but only two may be necessary.

• Primary Election: October 30, 2001.

• Possible Runoff Election: November 13, 2001. In the event that one candidate does not achieve a majority vote in his/her party's Special Primary Election, the top two vote-getters will participate in a Special Runoff Election.

• General Election: December 18, 2001.

FOR FURTHER INFORMATION CONTACT: Mr. Gregory J. Scott, Information Division, 999 E Street, NW., Washington, DC 20463; Telephone: (202) 694-1100; Toll Free (800) 424-9530.

SUPPLEMENTARY INFORMATION:

Principal Campaign Committees

Special Primary Only

All principal campaign committees of candidates only participating in the South Carolina Special Primary shall file a 12-day Pre-Primary Report on October 18, 2001. (See chart below for the closing date for the report.)

Special Primary and General Without Runoff

If only two elections are held, all principal campaign committees of candidates participating in the South Carolina Special Primary and Special General Elections shall file a 12-day Pre-Primary Report on October 18, 2001; a Pre-General Report on December 6, 2001; and a consolidated Post-General & Year-End Report on January 17, 2002. (See chart below for the closing date for each report.)

Special Primary and Runoff Elections

All principal campaign committees of candidates only participating in the South Carolina Special Primary and Special Runoff Elections shall file a 12-day Pre-Primary Report on October 18, 2001; and a Pre-Runoff Report on November 1, 2001. (See chart below for the closing date for each report.)

Special Primary, Runoff and General Elections

All principal campaign committees of candidates participating in the South Carolina Special Primary, Special Runoff and Special General Elections shall file a 12-day Pre-Primary Report on October 18, 2001; a Pre-Runoff Report on November 1, 2001; a Pre-General Report on December 6, 2001; and a consolidated Post-General & Year-End Report on January 17, 2002. (See chart below for the closing date for each report.)

Unauthorized Committees (PACs and Party Committees)

Political committees that file on a semiannual basis during 2001 are subject to special election reporting if they make previously undisclosed contributions or expenditures in connection with the South Carolina Special Primary, Runoff or General Elections by the close of books for the applicable report(s). Consult the chart below that corresponds to the committee's situation for close of books and filing date information.

Since disclosing financial activity from two different calendar years on one report would conflict with the calendar year aggregation requirements stated in the Commission's disclosure rules, unauthorized committees that trigger the filing of the consolidated Post-General & Year-End Report will be required to file this report on two separate forms. One form to cover 2001 activity, labeled as the Year-End Report; and the other form to cover only 2002 activity, labeled as the Post-General Report. Both forms must be filed by the due date for the consolidated report, January 17, 2002.

Committees filing monthly that support candidates in the South Carolina Special Primary, Special Runoff or Special General Elections should continue to file according to the non-election year monthly reporting schedule.

Calendar of Reporting Dates for South Carolina Special Elections
Report | Close of books¹ | Reg./Cert. mailing date ² | Filing date
COMMITTEES INVOLVED IN ONLY THE SPECIAL PRIMARY (10/30/01) MUST FILE:
Pre-Primary | 10/10/01 | 10/15/01 | 10/18/01
Year-End | 12/31/01 | 01/31/02 | 01/31/02
IF ONLY TWO ELECTIONS ARE HELD, COMMITTEES INVOLVED IN THE SPECIAL PRIMARY (10/30/01) AND THE SPECIAL GENERAL (12/18/01) MUST FILE:
Pre-Primary | 10/10/01 | 10/15/01 | 10/18/01
Pre-General | 11/28/01 | 12/03/01 | 12/06/01
Post-General & Year-End³ | 01/07/02 | 01/17/02 | 01/17/02
IF THREE ELECTIONS ARE HELD, COMMITTEES INVOLVED IN ONLY THE SPECIAL PRIMARY (10/30/01)AND SPECIAL RUNOFF (11/13/01) MUST FILE:
Pre-Primary | 10/10/01 | 10/15/01 | 10/18/01
Pre-Runoff | 10/24/01 | 10/29/01 | 11/01/01
Year-End | 12/31/01 | 01/31/02 | 01/31/02
COMMITTEES INVOLVED IN THE SPECIAL PRIMARY (10/30/01), SPECIAL RUNOFF (11/13/01)AND THE SPECIAL GENERAL (12/18/01) MUST FILE:
Pre-Primary | 10/10/01 | 10/15/01 | 10/18/01
Pre-Runoff | 10/24/01 | 10/29/01 | 11/01/01
Pre-General | 11/28/01 | 12/03/01 | 12/06/01
Post-General & Year-End³ | 01/07/02 | 01/17/02 | 01/17/02
COMMITTEES INVOLVED IN ONLY THE SPECIAL RUNOFF (11/13/01) MUST FILE:
Pre-Runoff | 10/24/01 | 10/29/01 | 11/01/01
Year-End | 12/31/01 | 01/31/02 | 01/31/02
COMMITTEES INVOLVED IN ONLY THE SPECIAL GENERAL (12/18/01) MUST FILE:
Pre-General | 11/28/01 | 12/03/01 | 12/06/01
Post-General & Year-End | 01/07/02 | 01/17/02 | 01/17/02
¹ The period begins with the close of books of the last report filed by the committee. If the committee has filed no previous reports, the period begins with the date of the committee's first activity.
² Reports sent registered or certified mail must be postmarked by the mailing date; otherwise, they must be received by the filing date.
³ Committees should file a consolidated Post-General & Year-End Report by the filing date of the Post-General Report.

Dated: August 31, 2001.
Karl J. Sandstrom,
Commissioner, Federal Election Commission.

[FR Doc. 01-22390 Filed 9-5-01; 8:45 am]

BILLING CODE 6715-01-P